DEPARTMENT OF THE INTERIOR

Bureau of Land Management

[OR 120 5882 CD99; HAG# 05-0169]

Notice of Public Meeting, Coos Bay Resource Advisory Committee Meeting

AGENCY: Bureau of Land Management, Department of the Interior.

ACTION: Notice of Bureau of Land Management (BLM) Coos Bay District Resource Advisory Committee Meeting as identified in Section 205(f)(2) of the Secure Rural Schools and Community Self-Determination Act of 2000, Public Law 106-393 (the Act).

SUMMARY: The BLM Coos Bay District Resource Advisory Committee is scheduled to meet on August 4, 2005 from 9 a.m. to 4:30 p.m. at the BLM Coos Bay District Office. The BLM Office is located at 1300 Airport Lane in North Bend, Oregon. The purpose of this meeting will be for the BLM Coos Bay District Resource Advisory Committee to recommend for funding Title II projects, as identified under the Act. The BLM Coos Bay District Resource Advisory Committee meeting is open to the public and there will be an opportunity for the public to comment at approximately 11 a.m. at this meeting. The BLM Coos Bay District Resource Advisory Committee may also meet on August 11, 2005 for the same purpose. The need for this meeting will be dependent upon the progress made in making recommendations at the meeting on August 4. The scheduled meeting time and location for the August 11 meeting will be the same as for the meeting scheduled on August 4.

FOR FURTHER INFORMATION CONTACT: Sue Richardson, BLM Coos Bay District Manager, at (541) 756-0100, or Glenn Harkleroad, District Restoration Coordinator, at (541) 751-4361, or glenn_harkleroad@or.blm.gov. The mailing address for the BLM Coos Bay District Office is 1300 Airport Lane, North Bend, Oregon 97459.

Dated: July 15, 2005.
Sue E. Richardson,
Coos Bay District Manager.

[FR Doc. 05-14473 Filed 7-21-05; 8:45 am]

BILLING CODE 4310-33-M